DEPARTMENT OF TRANSPORTATION

Federal Railroad Administration

[Docket Number FRA-2001-10948]

Petition for Waiver of Compliance

Under part 211 of Title 49 of the Code of Federal Regulations (CFR), this document provides the public notice that on September 11, 2017, Central Montana Rail, Inc. (CMR) petitioned the Federal Railroad Administration (FRA) for a waiver of compliance from certain provisions of the hours of service laws contained at Title 49 United States Code Section 21103(a) under authority of section 21102(b). FRA assigned the petition docket number FRA-2001-10948.

CMR requested an extension of its existing waiver of relief from the provisions of 49 U.S.C. 21103(a), which prohibits a train employee from remaining or going on duty for a period in excess of 12 consecutive hours. 49 U.S.C. 21102(b) allows railroads with 15 or fewer employees to be exempted from the restriction outlined at 49 U.S.C. 21103(a)(2), but the exemption may not authorize a carrier to require or allow its employees to be on duty more than a total of 16 hours in a 24-hour period. In support of its request, CMR explained that the allowance for train crews to accumulate up to 16 hours of time on duty has not impacted safety negatively, and is only used occasionally, to address unusual circumstances such as weather, traffic peaks, and employee illness. CMR states that its operation continues on approximately the same scale as when the initial waiver was granted, with seven regular full-time employees. A copy of the petition, as well as any written communications concerning the petition, is available for review online at www.regulations.gov and in person at the Department of Transportation's Docket Operations Facility, 1200 New Jersey Ave. SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by November 20, 2017 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Robert C. Lauby,
Associate Administrator for Railroad Safety, Chief Safety Officer.

[FR Doc. 2017-21511 Filed 10-5-17; 8:45 am]

BILLING CODE 4910-06-P